ENVIRONMENTAL PROTECTION AGENCY

40 CFR Part 52

[EPA-R04-OAR-2012-0888; FRL-9802-9]

Approval and Promulgation of Implementation Plans for Tennessee: Revisions to Volatile Organic Compound Definition

AGENCY: Environmental Protection Agency (EPA).

ACTION: Withdrawal of direct final rule.

SUMMARY: Due to the receipt of an adverse comment, EPA is withdrawing the February 19, 2013, direct final rule to approve Tennessee's September 3, 1999, state implementation plan (SIP) submission to change rule 1200-3-9-.01 to add a total of 17 compounds to the list of compounds excluded from the definition of “Volatile Organic Compound” (VOC). EPA is considering this comment and will address the comment in a subsequent action. EPA will not institute a second comment period on this action.

DATES: The direct final rule published at 78 FR 11583 on February 19, 2013, is withdrawn as of April 15, 2013.

FOR FURTHER INFORMATION CONTACT: Sean Lakeman, Regulatory Development Section, Air Planning Branch, Air, Pesticides and Toxics Management Division, U.S. Environmental Protection Agency, Region 4, 61 Forsyth Street SW., Atlanta, Georgia 30303-8960. The telephone number is (404) 562-9043. Mr. Lakeman can be reached via electronic mail at lakeman.sean@epa.gov.

SUPPLEMENTARY INFORMATION: On February 19, 2013 (78 FR 11583), EPA proposed to approve Tennessee's September 3, 1999, SIP submission to change rule 1200-3-9-.01 to add a total of 17 compounds to the list of compounds excluded from the definition of VOC to be consistent with EPA's definition of VOC at 40 CFR 51.100(s). The SIP submittal was in response to EPA's revision to the definition of VOC, (at 40 CFR 51.100(s)) published in the Federal Register on August 25, 1997 (62 FR 44900) and April 9, 1998 (63 FR 17331). These compounds were added to the exclusion list for VOC on the basis that they have a negligible effect on tropospheric ozone formation. In the direct final rule, EPA stated that if adverse comments were received by March 21, 2013, the rule would be withdrawn and not take effect. On March 21, 2013, EPA received a comment. EPA interprets this comment as adverse and, therefore, EPA is withdrawing the direct final rule. EPA will address the comment in a subsequent final action based upon the proposed rulemaking action, also published on February 19, 2013 (78 FR 11618). EPA will not institute a second comment period on this action.

List of Subjects in 40 CFR Part 52

Environmental protection, Air pollution control, Incorporation by reference, Intergovernmental relations, Reporting and recordkeeping requirements, Volatile organic compounds.

Dated: April 5, 2013.
Beverly H. Banister,
Acting Regional Administrator, Region 4.

Accordingly, the amendment to 40 CFR 52.2220(c) which published in the Federal Register on February 19, 2013, at 78 FR 11585 is withdrawn as of April 15, 2013.

[FR Doc. 2013-08695 Filed 4-12-13; 8:45 am]

BILLING CODE 6560-50-P